DEPARTMENT OF COMMERCE

Foreign-Trade Zones Board

[B-63-2021]

Foreign-Trade Zone 15—Kansas City, Missouri; Application for Reorganization and Expansion Under Alternative Site Framework

An application has been submitted to the Foreign-Trade Zones (FTZ) Board by the Greater Kansas City Foreign-Trade Zone, Inc., grantee of Foreign-Trade Zone 15, requesting authority to reorganize the zone to expand its service area and include a new magnet site under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on September 14, 2021.

FTZ 15 was approved by the FTZ Board on March 13, 1973 (Board Order 93, 38 FR 8622, April 4, 1973), reorganized under the ASF on May 16, 2014 (Board Order 1938, 79 FR 30079, May 27, 2014), and expanded under the ASF on October 25, 2018 (Board Order 2069, 83 FR 54711-54712, October 31, 2018). The zone currently has a service area that includes Andrew, Bates, Buchanan, Caldwell, Carroll, Cass, Chariton, Clay, Clinton, Cooper, Daviess, DeKalb, Henry, Howard, Jackson, Johnson, Lafayette, Livingston, Pettis, Platte, Ray and Saline Counties, Missouri.

The applicant is now requesting authority to expand the service area of the zone to include Holt County, as described in the application. If approved, the grantee would be able to serve sites throughout the expanded service area based on companies' needs for FTZ designation. The application indicates that the proposed expanded service area is adjacent to the Kansas City Customs and Border Protection Port of Entry.

The applicant is also requesting to expand its zone to include an additional magnet site: Proposed Site 24 (31.85 acres)—Iowa Tribe of Kansas and Nebraska Distribution Center, 27598 Highway F, Holt County.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is November 19, 2021. Rebuttal comments in response to material submitted during the foregoing period may be submitted during the subsequent 15-day period to December 6, 2021.

A copy of the application will be available for public inspection in the “Online FTZ Information Section” section of the FTZ Board's website, which is accessible via www.trade.gov/ftz. For further information, contact Camille Evans at Camille.Evans@trade.gov.

Dated: September 15, 2021.
Andrew McGilvray,
Executive Secretary.

[FR Doc. 2021-20269 Filed 9-17-21; 8:45 am]

BILLING CODE 3510-DS-P